DEPARTMENT OF DEFENSE

Office of the Secretary of Defense

Privacy Act of 1974; Systems of Records

AGENCY: Defense Logistics Agency, DoD.

ACTION: Notice to amend a system of records.

SUMMARY: The Defense Logistics Agency is amending a system of records notice to its existing inventory of record systems subject to the Privacy Act of 1974 (5 U.S.C. 552a), as amended.

DATES: This action will be effective without further notice on December 11, 2006 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: November 3, 2006.
L.M. Bynum,
Alternate OSD Federal Register Liaison Officer, Department of Defense.

S600.30

System name:

Safety, Health, Injury, and Accident Records (July 26, 2006, 71 FR 42364).

Changes:

* * * * *

Purpose(s):

Delete entry and replace with “Information is collected to comply with regulatory reporting requirements. Details about the accident site will be used to identify and correct known or potential hazards and to formulate improved accident prevention programs. The data, with all personal identifiers removed, may be used to prepared statistical reports.”

Routine uses of records maintained in the system, including categories of users and the purposes of such uses:

Delete “To hospitals, medical centers, medical or dental practitioners, or similar persons for the purpose of providing initial of follow-up care or treatment.”

* * * * *

S600.30

System name:

Safety, Health, Injury, and Accident Records.

System location:

Environment, Safety and Occupational Health Office, Headquarters, Defense Logistics Agency, ATTN: DES, 8725 John J. Kingman Road, Stop 6220, Fort Belvoir, VA 22060-6221, and the DLA Field Activity Safety and Health Offices. Official mailing addresses are published as an appendix to DLA's compilation of systems of records notices.

Records are also maintained by DLA Security Control Centers, Emergency Support Operations Centers, and fire and rescue departments certified to provide primary response and medical aid in emergencies. Official mailing addresses are available from the Privacy Act Office, Headquarters, Defense Logistics Agency, ATTN: DP, 8725 John J. Kingman Road, Stop 2533, Fort Belvoir, VA 22060-6221.

Categories of individuals covered by the system:

All individuals who suffer accidents, become injured or ill, or otherwise require emergency rescue or medical assistance while on DLA facilities.

Categories of records in the system:

Employee's name, Social Security Number or Foreign National Number, gender, age, date of birth, home address and telephone numbers, place of employment, accident reports, next of kin data, names of witnesses and their statements, photographs, and proposed or actual corrective action, where appropriate, and the name of physician/health care professional providing treatment, company providing medical treatment, and the address of the medical providers. Information is collected on DLA Form 1591, Supervisory Mishap Report. The records may also contain medical history data, current medications, allergies, vital signs and other medical details obtained at the site of injury or illness, details of treatment administered on the scene, name of receiving medical facility, names of units responding to the scene along with their response times, and whether the patient refused treatment of transport.

Authority for maintenance of the system:

10 U.S.C. 136, Under Secretary of Defense for Personnel and Readiness; 29 U.S.C. 651 et seq., The Occupational Safety and Health Act of 1970 (OSHA); E.O. 12196, Occupational Safety and Health Programs for Federal Employees; 29 CFR 1960, Subpart I, Record keeping and Reporting Requirements for Federal Occupational Safety and Health Programs; DoD Instruction 6055.1, DoD Safety and Occupational Health (SOH) Program; and E.O. 9397 (SSN).

Purpose(s):

Information is collected to comply with regulatory reporting requirements. Details about the accident site will be used to identify and correct known or potential hazards and to formulate improved accident prevention programs. The data, with all personal identifiers removed, may be used to prepare statistical reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Labor to comply with the requirement to report Federal civilian employee on-the-job accidents (29 CFR part 1960).

The DoD ‘Blanket Routine Uses’ set forth at the beginning of DLA's compilation of systems of records notices apply to this system.

Policies and practices for storing, retrieving, accessing, retaining, and disposing of records in the system:

Storage:

Records are stored in paper and electronic formats.

Retrievability:

Retrieved by name, Social Security Number, or SHIRS case number.

Safeguards:

Records are maintained in areas accessible only to DLA personnel who must use the records to perform their duties. The computer files are password protected with access restricted to authorized users. Records are secured in locked or guarded buildings, locked offices, or locked cabinets during non-duty hours. All individuals granted access to this system of records are to have taken Privacy Act training.

Retention and disposal:

Cases involving reportable mishaps are destroyed five years after case is closed. Cases involving non-reportable mishaps are destroyed three years after case is closed. Documentation of fire department activities and actions pertaining to fire/emergency calls are destroyed after 7 years.

System manager(s) and address:

Staff Director, Environment, Safety and Occupational Health Office, Headquarters, Defense Logistics Agency, ATTN: DES, 8725 John J. Kingman Road, Stop 6220, Fort Belvoir, VA 22060-6221;

Commander, Defense Distribution Center, 2001 Mission Drive, New Cumberland, PA 17070-5000;

Commander, Defense Supply Center, Columbus, 3990 Broad Street, Columbus, OH 43216-5000;

Commander, Defense Supply Center Richmond, 8000 Jefferson Davis Highway, Richmond, VA 23297-5000; and

Commander, Defense Logistics Information Service, 74 Washington Avenue North, #7, Battle Creek, MI 49017-3084.

Notification procedure:

Individuals seeking to determine whether information about themselves is contained in this system of records should address written inquiries to the Privacy Act Officer, Headquarters, Defense Logistics Agency, ATTN: DP, 8725 John J. Kingman Road, Stop 2533, Fort Belvoir, VA 22060-6221.

Record access procedures:

Individuals seeking access to information about themselves contained in this system of records should address written inquiries to the Privacy Act Officer, Headquarters, Defense Logistics Agency, ATTN: DP, 8725 John J. Kingman Road, Stop 2533, Fort Belvoir, VA 22060-6221.

Contesting record procedures:

The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.

Record source categories:

Record subject, supervisors, medical units, security offices, police, fire departments, investigating officers, or witnesses to accident.

Exemptions claimed for the system:

None.

[FR Doc. 06-9140 Filed 11-8-06; 8:45 am]

BILLING CODE 5001-06-M